DEPARTMENT OF TRANSPORTATION

Federal Aviation Administration

14 CFR Part 39

[Docket No. FAA-2007-26856; Directorate Identifier 2006-NM-125-AD; Amendment 39-15082; AD 2007-12-04]

RIN 2120-AA64

Airworthiness Directives; Airbus Model A300 B4-600, B4-600R, and F4-600R Series Airplanes, and Model C4-605R Variant F Airplanes (Collectively Called A300-600 Series Airplanes)

AGENCY: Federal Aviation Administration (FAA), Department of Transportation (DOT).

ACTION: Final rule.

SUMMARY: The FAA is superseding an existing airworthiness directive (AD) that applies to all Airbus Model A300-600 series airplanes. That AD currently requires inspections of the lower door surrounding structure to detect cracks and corrosion; inspections to detect cracking of the holes of the corner doublers, the fail-safe ring, and the door frames of the door structures; and repair if necessary. That AD also provides for optional terminating action for certain inspections. This new AD retains all requirements of the existing AD, mandates the previously optional terminating action, reduces the applicability of the existing AD, and adds repetitive inspections behind scuff plates for certain affected airplanes. This AD results from a determination that further rulemaking is necessary to improve the fatigue behavior of the cabin door surroundings. We are issuing this AD to prevent corrosion between the scuff plates at exit and cargo doors and fatigue cracks originating from certain fastener holes located in adjacent structure, which could result in reduced structural integrity of the door surroundings.

DATES: This AD becomes effective July 10, 2007.

The Director of the Federal Register approved the incorporation by reference of certain publications listed in the AD as of July 10, 2007.

On September 4, 1998 (63 FR 40812, July 31, 1998), the Director of the Federal Register approved the incorporation by reference of certain other publications listed in the AD.

ADDRESSES: You may examine the AD docket on the Internet at http://dms.dot.gov or in person at the Docket Management Facility, U.S. Department of Transportation, 400 Seventh Street, SW., Nassif Building, Room PL-401, Washington, DC.

Contact Airbus, 1 Rond Point Maurice Bellonte, 31707 Blagnac Cedex, France, for service information identified in this AD.

FOR FURTHER INFORMATION CONTACT: Tom Stafford, Aerospace Engineer, International Branch, ANM-116, FAA, Transport Airplane Directorate, 1601 Lind Avenue, SW., Renton, Washington 98057-3356; telephone (425) 227-1622; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that supersedes AD 98-16-05, amendment 39-10680 (63 FR 40812, July 31, 1998). The existing AD applies to all Airbus Model A300-600 series airplanes. That NPRM was published in the Federal Register on January 19, 2007 (72 FR 2469). That NPRM proposed to continue the requirements of AD 98-16-05. These requirements are inspections of the lower door surrounding structure to detect cracks and corrosion; inspections to detect cracking of the holes of the corner doublers, the fail-safe ring, and the door frames of the door structures; and repair if necessary. That NPRM also proposed to mandate the previously optional terminating action, reduce the applicability of the existing AD, and add repetitive inspections behind scuff plates for certain affected airplanes.

Comments

We provided the public the opportunity to participate in the development of this AD. We have considered the comments that have been received on the NPRM.

Request To Give Credit for Previous Inspections

FedEx concurs with the NPRM, but requests that we give credit for previous inspections accomplished in accordance with AD 98-16-05. FedEx points out that this credit should be given for actions in paragraphs (f), (g), (j), (k), (n), and (r) of the NPRM.

We partially agree with the request. We agree that it is necessary for the AD to give credit for inspections accomplished previously in accordance with AD 98-16-05. We disagree that it is necessary to change the AD in this regard. Paragraph (e) of the AD states “You are responsible for having the actions required by this AD performed within the compliance times specified, unless the actions have already been done.” Therefore, the AD already gives credit for required actions that were accomplished according to AD 98-16-05.

Request To Allow Previously Granted Alternate Methods of Compliance (AMOCs)

FedEx also suggests that AMOCs issued per AD 98-16-05 be granted as applicable to the NPRM.

We agree that we should approve AMOCs for this AD that were approved previously in accordance with AD 98-16-05. We disagree with changing the AD in this regard. Paragraph (t)(2) of both the NPRM and the AD already approves previous AMOCs.

Request To Address Repairs Outside Limits

FedEx requests that we add wording to paragraphs (l)(2) and (t) of the NPRM to address repairs outside the applicable service bulletins or that exceed the service bulletin limits. (Airbus Service Bulletin A300-53-6018, Revision 1, dated April 29, 1992; or Revision 02, dated November 27, 2000; are the applicable service bulletins for paragraph (l)(2); and paragraph (t) is the AMOC paragraph.) FedEx suggests the following wording: “If any crack or corrosion is detected during any inspection required by this AD and the applicable service bulletin specifies to contact the manufacturer for disposition of corrective actions: Prior to further flight, repair in accordance with a method approved by either the Manager, International Branch, ANM-116, or DGAC/EASA, or its delegated agent.”

We disagree with the request to add the suggested words. There are no limits specified in the service bulletins. We cannot approve repairs that exceed the limits of the service bulletin unless the excess limits are defined. However, affected operators may request approval of AMOCs, under the provisions of paragraph (t) of the AD.

Conclusion

We have carefully reviewed the available data, including the comments that have been submitted, and determined that air safety and the public interest require adopting the AD as proposed.

Costs of Compliance

The following table provides the estimated costs for U.S. operators to comply with this AD. The average labor rate per work hour is $80.

Estimated Costs
Action | Work hours | Parts | Cost per airplane | Number of U.S.-registered airplanes | Fleet cost
Repetitive inspections behind scuff plates | 37 | None | $2,960 | 129 | $381,840.
Repetitive inspections of corner doublers, fail-safe ring, and door frames | Between 1 and 51 | None | Between $80 and $4,080 | 129 | Between $10,320 and $526,320.
Terminating modification for repetitive inspection of corner doublers, fail-safe ring, and door frames | Between 8 and 67, depending on kit purchased | Between $580 and $11,273, depending on kit purchased | Between $1,220 and $16,633 | 129 | Between $157,380 and $2,145,657.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-10680 (63 FR 40812, July 31, 1998) and by adding the following new airworthiness directive (AD):

2007-12-04 Airbus: Amendment 39-15082. Docket No. FAA-2007-26856; Directorate Identifier 2006-NM-125-AD.

Effective Date

(a) This AD becomes effective July 10, 2007.

Affected ADs

(b) This AD supersedes AD 98-16-05.

Applicability

(c) This AD applies to Airbus Model A300 B4-601, B4-603, B4-620, and B4-622 airplanes; Model A300 B4-605R and B4-622R airplanes; Model A300 F4-605R and F4-622R airplanes; and Model A300 C4-605R Variant F airplanes; certificated in any category; excluding those airplanes on which Airbus Modification 5068, 6514, 7201, and 7298 have been incorporated in production.

Unsafe Condition

(d) This AD results from a determination that further rulemaking is necessary to improve the fatigue behavior of the cabin door surroundings. We are issuing this AD to prevent corrosion between the scuff plates at exit and cargo doors and fatigue cracks originating from certain fastener holes located in adjacent structure, which could result in reduced structural integrity of the door surroundings.

Compliance

(e) You are responsible for having the actions required by this AD performed within the compliance times specified, unless the actions have already been done.

Requirements of AD 98-16-05

Initial Inspection Behind Scuff Plates and Repair if Necessary

(f) Perform an initial inspection of the areas behind the scuff plates below the passenger/crew doors and bulk cargo door to detect cracks and corrosion, in accordance with Airbus Service Bulletin A300-53-6011, Revision 3, dated February 4, 1991, at the time specified in paragraph (f)(1), (f)(2), or (f)(3) of this AD. If any crack or corrosion is found during this inspection, prior to further flight, repair in accordance with the service bulletin. Accomplishment of this inspection is not required for the mid and aft passenger/crew doors if a steel doubler that covers the entire inspection area is installed.

(1) For airplanes on which Modification 5382S6526 (for forward doors) and Modification 5382D4741 (for all other doors) have been accomplished prior to delivery of the airplane: Perform the initial inspection within 9 years since date of manufacture, or within 1 year after September 4, 1998 (the effective date of AD 98-16-05), whichever occurs later.

(2) For airplanes on which Modification 5382S6526 (for forward doors) and Modification 5382D4741 (for all other doors) have not been accomplished; and on which the procedures described in Airbus Service Information Letter (SIL) A300-53-033, Revision 2 (for all doors), dated November 23, 1984, have been accomplished: Perform the initial inspection within 5 years after accomplishment of the procedures described in the SIL, or within 1 year after September 4, 1998, whichever occurs later.

(3) For airplanes on which Modification 5382S6526 (for forward doors), and Modification 5382D4741 (for all other doors), and the procedures described in Airbus SIL A300-53-033, Revision 2, dated November 23, 1984, have not been accomplished: Perform the initial inspection within 4 years since date of manufacture, or within 1 year after September 4, 1998, whichever occurs later.

Repetitive Inspections Behind Scuff Plates

(g) Perform repetitive inspections of the areas behind the scuff plates below the passenger/crew doors and bulk cargo door to detect cracks and corrosion, in accordance with Airbus Service Bulletin A300-53-6022, dated February 4, 1991, at the applicable times specified in paragraphs (g)(1) and (g)(2) of this AD. Accomplishment of these inspections is not required for the mid and aft passenger/crew doors if a steel doubler that covers the entire inspection area is installed.

(1) For the forward and mid passenger/crew doors, the bulk cargo door, and the aft passenger/crew doors, except the upper and lower edges of the fail-safe ring and the upper edges of the corner doubler: Perform the first inspection within 5 years after accomplishing the inspection required by paragraph (f) of this AD; and repeat the inspection thereafter at intervals not to exceed 5 years.

(2) For the upper and lower edges of the fail-safe ring and the upper edges of the corner doubler of the aft passenger/crew doors: Perform the first inspection within 5 years or 6,000 landings after accomplishing the inspection required by paragraph (f) of this AD, whichever occurs first; and repeat the inspection thereafter at intervals not to exceed 5 years or 6,000 landings, whichever occurs first.

Repair of Scuff Plates if Necessary

(h) If any crack is found during any inspection required by paragraph (g) of this AD, prior to further flight, repair in accordance with Airbus Service Bulletin A300-53-6022, dated February 4, 1991. Thereafter, perform the repetitive inspections required by paragraph (g) of this AD at the applicable times specified in paragraphs (g)(1) and (g)(2) of this AD.

(i) If corrosion is found during any inspection required by paragraph (g) of this AD, prior to further flight, repair in accordance with Airbus Service Bulletin A300-53-6022, dated February 4, 1991. Thereafter, perform the repetitive inspections required by paragraph (g) of this AD at the applicable times specified in paragraph (i)(1) or (i)(2) of this AD.

(1) For the upper and lower edges of the fail-safe ring and the upper edges of the corner doubler of the aft passenger/crew doors, and for the mid passenger/crew door: Inspect at intervals not to exceed 5 years or 5,000 landings, whichever occurs first.

(2) For the forward passenger/crew doors and bulk cargo doors: Inspect at intervals not to exceed 5 years.

Initial Inspection of Corner Doublers, Fail-Safe Ring, and Door Frames

(j) Perform an inspection to detect cracking of the holes of the corner doublers, the fail-safe ring, and the door frames of the left- and right-hand forward, mid, and aft passenger/crew door structures, in accordance with Airbus Service Bulletin A300-53-6018, Revision 1, dated April 29, 1992, and at the applicable time specified in paragraph (j)(1), (j)(2), (j)(3), or (j)(4) of this AD.

(1) For the upper corners of the forward doors: Inspect prior to the accumulation of 20,000 total landings, or within 2,000 landings after September 4, 1998, whichever occurs later.

(2) For the lower corners of the forward doors: Inspect prior to the accumulation of 20,000 total landings, or within 4,000 landings after September 4, 1998, whichever occurs later.

(3) For the upper and lower corners of the mid doors: Inspect prior to the accumulation of 20,000 total landings, or within 2,000 landings after September 4, 1998, whichever occurs later.

(4) For the upper and lower corners of the aft doors, and for the parts underneath the corners of the upper door frames: Inspect prior to the accumulation of 20,000 total landings, or within 4,000 landings after September 4, 1998, whichever occurs later.

Repetitive Inspections of Corner Doublers, Fail-Safe Ring, and Door Frames

(k) Repeat the inspections required by paragraph (j) of this AD at the applicable times specified in paragraphs (k)(1), (k)(2), (k)(3), (k)(4), and (k)(5) of this AD.

(1) For the upper corners of the forward doors: Inspect at intervals not to exceed 6,000 landings.

(2) For the lower corners of the forward doors: Inspect at intervals not to exceed 10,000 landings.

(3) For the upper and lower corners of the mid and aft doors on which an inspection required by paragraph (j) of this AD was accomplished using a ROTO test technique: Inspect at intervals not to exceed 8,000 landings.

(4) For the upper and lower corners of the mid and aft doors on which an inspection required by paragraph (j) of this AD was accomplished using an X-ray technique: Inspect at intervals not to exceed 3,500 landings.

(5) For the areas around the fasteners in the vicinity of stringer 12 on the upper door frames of the aft doors on which an inspection required by paragraph (j) of this AD was accomplished using a visual technique: Inspect at intervals not to exceed 6,900 landings.

Repair of Corner Doublers, Fail-Safe Ring, and/or Door Frames if Necessary

(l) If any crack is found during any inspection required by paragraph (j) or (k) of this AD: Prior to further flight, accomplish the requirement of paragraph (l)(1) or (l)(2) of this AD, as applicable.

(1) If any crack is found, and the crack can be eliminated using the method specified in Airbus Service Bulletin A300-53-6018, Revision 1, dated April 29, 1992; or Revision 02, excluding Appendix 01, dated November 27, 2000: Prior to further flight, repair the crack in accordance with that service bulletin.

(2) If any crack is found, and the crack cannot be eliminated using the method specified in Airbus Service Bulletin A300-53-6018, Revision 1, dated April 29, 1992; or Revision 02, excluding Appendix 01, dated November 27, 2000: Prior to further flight, repair the crack in accordance with a method approved by the Manager, International Branch, ANM-116, FAA, Transport Airplane Directorate.

New Requirements of This AD

New Revisions of Service Bulletins

(m) As of the effective date of this AD, use only the applicable service bulletins specified in Table 1 of this AD; except where the service bulletins recommend contacting Airbus for appropriate action, before further flight, repair the cracked part using a method approved by the Manager, International Branch, ANM-116, Transport Airplane Directorate, FAA; or the European Aviation Safety Agency (EASA) (or its delegated agent).

Table 1.—New Revisions of Service Bulletins
Do the action(s) required by— | In accordance with the accomplishment instructions of Airbus Service Bulletin—
(1) Paragraph (f) of this AD | A300-53-6011, Revision 07, dated January 24, 2005.
(2) Paragraphs (g) through (i) of this AD | A300-53-6022, Revision 04, dated January 24, 2005.
(3) Paragraphs (j), (k), and (l)(1) of this AD | A300-53-6018, Revision 03, excluding Appendix 01, dated July 26, 2006.

Initial Inspection Behind Scuff Plates and Repair if Necessary for Additional Airplanes

(n) Perform an initial inspection of the areas behind the scuff plates below the passenger/crew doors and bulk cargo door to detect cracks and corrosion, in accordance with the Accomplishment Instructions of Airbus Service Bulletin A300-53-6011, Revision 07, dated January 24, 2005; at the applicable time specified in Table 2 of this AD. If any crack or corrosion is found during this inspection, before further flight, repair in accordance with the service bulletin. Accomplishment of this inspection is not required for the mid and aft passenger/crew doors if a steel doubler that covers the entire inspection area is installed.

Table 2.—Compliance Time Initial Inspection Behind Scuff Plate for Additional Airplanes
For airplanes on which— | And on which— | Compliance time (whichever occurs later): Threshold | Compliance time (whichever occurs later): Grace period
(1) Modification 5382S6526 (for forward doors) and Modification 5382D4485 (for all other doors) have been done before the date of issuance of the original French standard airworthiness certificate or the date of issuance of the original French export certificate of airworthiness | None | Within 108 months after first flight | Within 12 months after the effective date of this AD.
(2) Modification 5382S6180 (for forward doors) and Modification 5382D4741 or 5382D4485 (for all other doors) have been done before the date of issuance of the original French standard airworthiness certificate or the date of issuance of the original French export certificate of airworthiness | None | Within 108 months after first flight | Within 12 months after the effective date of this AD.
(3) Modification 5382S6526 (for forward doors) and Modification 5382D4485 (for all other doors) have not been done before the effective date of this AD | The actions specified in Airbus Service Information Letter (SIL) A300-53-033, Revision 2 (for all doors), dated November 23, 1984, have been done | Within 60 months after accomplishing the actions specified in the SIL | Within 12 months after the effective date of this AD.
(4) Modification 5382S6180 (for forward doors) and Modification 5382D4741 or 5382D4485 (for all other doors) have not been done before the effective date of this AD | The actions specified in Airbus SIL A300-53-033, Revision 2 (for all doors), dated November 23, 1984, have been done | Within 60 months after accomplishing the actions specified in the SIL | Within 12 months after the effective date of this AD.
(5) Modification 5382S6526 (for forward doors) and Modification 5382D4485 (for all other doors) have not been done before the effective date of this AD | The actions specified in Airbus SIL A300-53-033, Revision 2, dated November 23, 1984, have not been done | Within 48 months since the date of issuance of the original French standard airworthiness certificate or the date of issuance of the original French export certificate of airworthiness | Within 12 months after the effective date of this AD.
(6) Modification 5382S6180 (for forward doors) and Modification 5382D4741 or 5382D4485 (for all other doors) have not been done before the effective date of this AD | The actions specified in Airbus SIL A300-53-033, Revision 2, dated November 23, 1984, have not been done | Within 48 months since the date of issuance of the original French standard airworthiness certificate or the date of issuance of the original French export certificate of airworthiness | Within 12 months after the effective date of this AD.

Repetitive Inspections Behind Scuff Plates for Additional Airplanes

(o) For airplanes identified in Table 2 of this AD: Perform repetitive inspections of the areas behind the scuff plates below the passenger/crew doors and bulk cargo door to detect cracks and corrosion, in accordance with Airbus Service Bulletin A300-53-6022, Revision 04, dated January 24, 2005, at the applicable times specified in paragraphs (o)(1) and (o)(2) of this AD. Accomplishment of these inspections is not required for the mid and aft passenger/crew doors if a steel doubler that covers the entire inspection area is installed.

(1) For the forward and mid passenger/crew doors, the bulk cargo door, and the aft passenger/crew doors, except the upper and lower edges of the fail-safe ring and the upper edges of the corner doubler: Perform the first inspection within 60 months after accomplishing the inspection required by paragraph (n) of this AD; and repeat the inspection thereafter at intervals not to exceed 60 months.

(2) For the upper and lower edges of the fail-safe ring and the upper edges of the corner doubler of the aft passenger/crew doors: Perform the first inspection within 60 months or 6,000 landings after accomplishing the inspection required by paragraph (n) of this AD, whichever occurs first; and repeat the inspection thereafter at intervals not to exceed 60 months or 6,000 landings, whichever occurs first.

Repair of Scuff Plates if Necessary

(p) If any crack is found during any inspection required by paragraph (o) of this AD, prior to further flight, repair in accordance with Airbus Service Bulletin A300-53-6022, Revision 04, dated January 24, 2005. Thereafter, perform the repetitive inspections required by paragraph (o) of this AD at the applicable times specified in paragraphs (o)(1) and (o)(2) of this AD.

(q) If corrosion is found during any inspection required by paragraph (o) of this AD, prior to further flight, repair in accordance with Airbus Service Bulletin A300-53-6022, Revision 04, dated January 24, 2005. Thereafter, perform the repetitive inspections required by paragraph (g) of this AD at the applicable times specified in paragraph (q)(1) or (q)(2) of this AD.

(1) For the upper and lower edges of the fail-safe ring and the upper edges of the corner doubler of the aft passenger/crew doors, and for the mid passenger/crew door: Inspect at intervals not to exceed 60 months or 5,000 landings, whichever occurs first.

(2) For the forward passenger/crew doors and bulk cargo doors: Inspect at intervals not to exceed 60 months.

Terminating Modification for Repetitive Inspection of Corner Doublers, Fail-Safe Ring, and Door Frames

(r) Before the accumulation of 30,000 total flight cycles since the date of issuance of the original French standard airworthiness certificate or the date of issuance of the original French export certificate of airworthiness, or during the next inspection required by paragraph (k) of this AD, whichever occurs later: Modify the passenger/crew door structures in accordance with the Accomplishment Instructions of Airbus Service Bulletin A300-53-6002, Revision 06, dated May 17, 2004. Accomplishment of this modification constitutes terminating action for the inspections required by paragraphs (j) and (k) of this AD. The inspections required by paragraphs (f) and (n) of this AD, as applicable, must be done before accomplishing this modification.

Earlier Revisions of Service Bulletins

(s) Actions done before the effective date of this AD in accordance with the service bulletins identified in Table 3 of this AD, are acceptable for compliance with the corresponding requirements of this AD.

Table 3.—Earlier Revisions of Service Bulletins
Airbus Service Bulletin | Revision level | Date
(1) A300-53-6002 | 3 | February 22, 1992.
(2) A300-53-6002 | 4 | July 13, 1992.
(3) A300-53-6002 | 05 | September 7, 2000.
(4) A300-53-6011 | 04 | July 2, 1996.
(5) A300-53-6011 | 05 | September 7, 2000.
(6) A300-53-6011 | 06 | November 12, 2002.
(7) A300-53-6018, excluding Appendix 01 | 02 | November 27, 2000.
(8) A300-53-6022 | 01 | July 2, 1996.
(9) A300-53-6022 | 02 | September 7, 2000.
(10) A300-53-6022 | 03 | November 12, 2002.

Alternative Methods of Compliance (AMOCs)

(t)(1) The Manager, International Branch, ANM-116, has the authority to approve AMOCs for this AD, if requested in accordance with the procedures found in 14 CFR 39.19.

(2) AMOCs approved previously in accordance with AD 98-16-05 are approved as AMOCs for the corresponding provisions of paragraphs (f) through (l) of this AD.

(3) Before using any AMOC approved in accordance with § 39.19 on any airplane to which the AMOC applies, notify the appropriate principal inspector in the FAA Flight Standards Certificate Holding District Office.

Related Information

(u) French airworthiness directives 1991-132-124(B) R1, dated November 29, 2000, and F-2004-103, dated July 7, 2004, also address the subject of this AD.

Material Incorporated by Reference

(v) You must use the service information listed in Table 4 of this AD to perform the actions that are required by this AD, unless the AD specifies otherwise.

Table 4.—All Material Incorporated by Reference
Airbus Service Bulletin | Revision level | Date
A300-53-6002 | 06 | May 17, 2004.
A300-53-6011 | 3 | February 4, 1991.
A300-53-6011 | 07 | January 24, 2005.
A300-53-6018 | 1 | April 29, 1992.
A300-53-6018, excluding Appendix 01 | 02 | November 27, 2000.
A300-53-6018, excluding Appendix 01 | 03 | July 26, 2006.
A300-53-6022 | Original | February 4, 1991.
A300-53-6022 | 04 | January 24, 2005.

(1) The Director of the Federal Register approved the incorporation by reference of the service information listed in Table 5 of this AD in accordance with 5 U.S.C. 552(a) and 1 CFR part 51.

Table 5.—New Material Incorporated by Reference
Airbus Service Bulletin | Revision level | Date
A300-53-6002 | 06 | May 17, 2004.
A300-53-6011 | 07 | January 24, 2005.
A300-53-6018, excluding Appendix 01 | 02 | November 27, 2000.
A300-53-6018, excluding Appendix 01 | 03 | July 26, 2006.
A300-53-6022 | 04 | January 24, 2005.

(2) On September 4, 1998 (63 FR 40812, July 31, 1998), the Director of the Federal Register approved the incorporation by reference of the service information listed in Table 6 of this AD.

Table 6.—Material Previously Incorporated by Reference
Airbus Service Bulletin | Revision level | Date
A300-53-6011 | 3 | February 4, 1991.
A300-53-6018 | 1 | April 29, 1992.
A300-53-6022 | Original | February 4, 1991.

(3) Contact Airbus, 1 Rond Point Maurice Bellonte, 31707 Blagnac Cedex, France, for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on May 25, 2007.
Ali Bahrami,
Manager, Transport Airplane Directorate, Aircraft Certification Service.

[FR Doc. E7-10671 Filed 6-4-07; 8:45 am]

BILLING CODE 4910-13-P